DEPARTMENT OF COMMERCE

Foreign-Trade Zones Board

[Order No. 1573]

Approval for Manufacturing Authority

Fuji Vegetable Oil, Inc.

(Vegetable Oil Products)

Savannah, Georgia

Pursuant to its authority under the Foreign-Trade Zones Act of June 18, 1934, as amended (19 U.S.C. 81a-81u), the Foreign-Trade Zones Board (the Board) adopts the following Order:

WHEREAS, the Savannah Airport Commission, grantee of FTZ 104, has requested manufacturing authority within FTZ 104 -- Site 2, in Savannah, Georgia (FTZ Docket 51-2007, filed 12/14/07);

WHEREAS, notice inviting public comment has been given in the Federal Register (72 FR 73314, 12/27/07); and,

WHEREAS, the Board adopts the findings and recommendations of the examiner's report, and finds that the requirements of the FTZ Act and the Board's regulations are satisfied, and that approval of the application is in the public interest;

NOW, THEREFORE, the Board hereby grants authority for the manufacture of vegetable oil products within FTZ 104 on behalf of Fuji Vegetable Oil, Inc., as described in the application and Federal Register notice, subject to the FTZ Act and the Board's regulations, including Section 400.28.

Signed at Washington, DC, this 2nd day of September 2008.

David M. Spooner,
Assistant Secretary of Commerce for Import Administration.
Alternate Chairman Foreign-Trade Zones Board.
ATTEST:
Andrew McGilvray,
Executive Secretary.

[FR Doc. E8-21849 Filed 9-17-08; 8:45 am]

BILLING CODE 3510-DS-S